DEPARTMENT OF COMMERCE

Foreign-Trade Zones Board

[B-42-2013]

Foreign-Trade Zone 134—Chattanooga, Tennessee; Authorization of Production Activity; Komatsu America Corporation, (Construction and Forestry Equipment), Chattanooga, Tennessee

On May 6, 2013, the Chattanooga Chamber Foundation, grantee of FTZ 134, submitted a notification of proposed production activity to the Foreign-Trade Zones (FTZ) Board on behalf of Komatsu America Corporation, within FTZ 134-Site 14, in Chattanooga, Tennessee.

The notification was processed in accordance with the regulations of the FTZ Board (15 CFR part 400) including notice in the Federal Register inviting public comment (78 FR 28190, 05-14-2013). The FTZ Board has determined that no further review of the activity is warranted at this time. The production activity described in the notification is authorized, subject to the FTZ Act and the Board's regulations, including Section 400.14.

Dated: September 3, 2013.
Andrew McGilvray,
Executive Secretary.

[FR Doc. 2013-21899 Filed 9-6-13; 8:45 am]

BILLING CODE 3510-DS-P